DEPARTMENT OF ENERGY

Federal Energy Regulatory Commission

[Docket No. PR01-2-001]

The Peoples Gas Light and Coke Company; Notice of Compliance Filing

May 2, 2001.

Take notice that on April 11, 2001, The Peoples Gas Light and Coke Company (Peoples Gas) tendered for filing an Amended Operating Statement to be effective December 1, 2000.

Peoples Gas states that the purpose of this filing is to revise the rates on the Statement of Currently Effective Rates, from the Operating Statement, showing the corrections required by the Commission's March 30, 2001 order in Docket No. PR01-2-000.

Peoples Gas states that a copy of this filing has been served upon each person designated on the official service list compiled by the Secretary in this proceeding.

Any person desiring to protest said filing should file a protest with the Federal Energy Regulatory Commission, 888 First Street, NE., Washington DC 20426, in accordance with Section 385.211 of the Commission's Rules and Regulations. All such protests must be filed on or before May 17, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11488 Filed 5-7-01; 8:45 am]

BILLING CODE 6717-01-M